DEPARTMENT OF HEALTH AND HUMAN SERVICES

Administration for Children and Families

Proposed Information Collection Activity; Comment Request

Proposed Project

Title: Supporting Healthy Marriage (SHM) Demonstration and Evaluation Project: 12-month Follow-up and Implementation Research Data Collection.

OMB No.: New Collection.

The Administration for Children and Families (ACF), U.S. Department of Health and Human Services, is conducting a demonstration and evaluation called the Supporting Healthy Marriage (SHM) project. SHM is a test of marriage education demonstration programs in eight separate locations that will aim to enroll up to 1,000 couples per location, up to 500 couples participating in SHM programs and 500 control group couples.

SHM is designed to inform program operators and policymakers of the most effective ways to help low-income married couples strengthen and maintain healthy marriages. In particular, the project will measure the effectiveness of marriage education programs by randomly assigning eligible volunteer couples to SHM program groups and control groups.

This data collection request includes three components. First, a survey will be administered to couples 12 months after they are enrolled in the program. The survey is designed to assess the effects of the SHM program on marital status and stability, quality of relationship with spouse, marital expectations and ideals, marital satisfaction, participation in services, parenting outcomes, child outcomes, parental well-being, employment, income, material hardship, and social support characteristics of study participants assigned to both the program and control groups. Second, survey data will be complemented by videotaped observations of couple, co-parenting, and parent-child interactions with a subset of intact and separated couples at the 12-month follow-up. Third, qualitative data will be collected through a process and implementation study in each of the eight SHM demonstration programs across the country.

These data will complement the information gathered by the SHM baseline data collection (OMB Control No. 0970-0299). The information collected at the 12-month follow-up will allow the research team to examine the effects of SHM services on outcomes of interest and to identify mechanisms that might account for these effects. The process and implementation research will consist of a qualitative component that will help ACF to better understand the results from the impact analysis as well as how to replicate programs that prove to be successful.

Respondents: Low-income married couples with children.

Annual Burden Estimates
Instrument | Annual number of respondents | Number of responses per respondent | Average burden hours per response | Estimated annual burden hours
12-month survey | 10,240 | 1 | 0.83 | 8,499.2
12-month observational study (intact couples) | 3,200 | 1 | 0.68 | 2,176
12-month observational study (separated couples) | 160 | 1 | 0.17 | 27.2
12-month observational study (children of intact couples) | 1,600 | 1 | 0.33 | 528
12-month observational study (children of separated couples) | 160 | 1 | 0.17 | 27.2
The process and implementation field research guide | 504 | 1 | 1 | 504

Estimated Total Annual Burden Hours: 11,761.6.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: October 1, 2007
Brendan C. Kelly,
OPRE Reports, Clearance Officer.

[FR Doc. 07-4943 Filed 10-4-07; 8:45 am]

BILLING CODE 4184-01-M